DEPARTMENT OF JUSTICE

Antitrust Division

Notice Pursuant to the National Cooperative Research and Production Act of 1993—the Open Mobile Alliance

Notice is hereby given that, on July 5, 2002, pursuant to Section 6(a) of the National Cooperative Research and Production Act of 1993, 15 U.S.C. 4301 et seq. (“the Act”), The Open Mobile Alliance (“OMA”) has filed written notifications simultaneously with the Attorney General and the Federal Trade Commission disclosing changes in its membership status. The notifications were filed for the purpose of extending the Act's provisions limiting the recovery of antitrust plaintiffs to actual damages under specified circumstances. Specifically, China Mobile Communications Corporation, Beijing, PEOPLE'S REPUBLIC OF CHINA; LG Electronics Inc., Seoul, REPUBLIC OF KOREA; Macromedia, Inc., San Francisco, CA; Philips Electronics, Eindhoven, THE NETHERLANDS; STMicroelectronics, Geneva, SWITZERLAND; T-Motion PLC, London, UNITED KINGDOM; and Websoft International Inc., Tokyo, JAPAN have been added as parties to this venture. SoftQuad Software Ltd., Burnaby, British Columbia, CANADA has changed its name to Corel Corporation. Materna Information & Communications, Dortmund, GERMANY has changed its name to Materna GmbH Information & communications. Orange Personal, Bristol, UNITED KINGDOM has changed its name to Orange SA. Philips Consumer, LeMans Cedex, FRANCE has changed its name to Philips France, and One 2 One, Borehamwood, Hertfordshire, UNITED KINGDOM has changed its name to T-Mobile UK.

The following companies had their memberships cancelled: AlterEgo Networks, Inc., Redwood City, CA; ANAM Wireless Internet Solutions, Dublin, IRELAND; Brience, Inc., San Francisco, CA; Jataayu Software Ltd., Bangalore, INDIA; KETI Korean Electronics Technology, Kyunnggi-Do, REPUBLIC OF KOREA; nGame Ltd., Cambridge, UNITED KINGDOM; Philips France, LeMans Cedex, FRANCE; and SingleSignOn.Net Inc., Reston, VA.

The following companies have resigned: American Express TRS Co., Inc., Jersey City, NJ; ATX Technologies, Irving, TX; Cap Gemini Ernst & Young, Paris, FRANCE; Clickmarks.com, Fremont, CA; Credit Suisse e-Business, Zurich, SWITZERLAND; dokoni, Inc., San Diego, CA; ETRI Electronic and Telecommunications, Daejeon, REPUBLIC OF KOREA; Fast Search and Transfer ASA (FAST), Oslo, NORWAY; Mahindra British Telecom Limited, Maharashtra, INDIA; Networks365Limited, Kilmacanogue, County Wicklow, IRELAND; Omnisky Corporation, San Francisco, CA; PUMATECH, Inc., San Jose, CA; Sandia Research Corporation, Las Cruces, NM; Steltor, Montreal, Quebec, CANADA; Telstra Corporation Ltd., Sydney, New South Wales, AUSTRALIA; and Trintech Group plc, Dublin, IRELAND.

No other changes have been made in either the membership or planned activity of the group research project. Membership in this group research project remains open, and OMA intends to file additional written notifications disclosing all changes in membership.

On March 18, 1998, OMA filed its original notification pursuant to Section 6(a) of the Act. The Department of Justice published a notice in the Federal Register pursuant to Section 6(b) of the Act on December 31, 1998 (63 FR 72333).

The last notification was filed with the Department on May 3, 2002. A notice was published in the Federal Register pursuant to Section 6(b) of the Act on June 27, 2002 (67 FR 43343).

Constance K. Robinson,
Director of Operations, Antitrust Division.

[FR Doc. 02-22449 Filed 9-3-02; 8:45 am]

BILLING CODE 4410-11-M